DEPARTMENT OF TRANSPORTATION

National Highway Traffic Safety Administration

[Docket No. NHTSA-2009-0059]

Reports, Forms, and Recordkeeping Requirements

AGENCY: National Highway Traffic Safety Administration (NHTSA), Department of Transportation (DOT).

ACTION: Request for public comment.

SUMMARY: Before a Federal agency can collect certain information from the public, it must receive approval from the Office of Management and Budget (OMB). Under procedures established by the Paperwork Reduction Act of 1995, Federal agencies must solicit public comment on proposed collections of information, including extensions and reinstatement of previously approved collections. This document describes a request for emergency clearance for a collection of information associated with product plan information to assist the agency in establishing corporate average fuel economy standards for model years 2012 through 2016 passenger cars and light trucks. The establishment of those standards is required by the Energy Policy and Conservation Act, as amended by the Energy Independence and Security Act (EISA) of 2007, Public Law 110-140.

DATES: Comments must be received on or before November 23, 2009.

ADDRESSES: Comments must refer to the docket notice number cited at the beginning of this notice, and be submitted to: Mr. Ken Katz, Fuel Economy Division, Office of International Policy, Fuel Economy and Consumer Programs, at (202) 366-0846, facsimile (202) 493-2290, electronic mail: ken.katz@dot.gov. For legal issues, call Ms. Dorothy Nakama, Office of the Chief Counsel, at (202) 366-2992.

It is requested, but not required, that 2 copies of the comment be provided.

Commenters may also, but are not required to, submit their comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue, SE., Washington, DC 20590.

• Hand Delivery or Courier: West Building Ground Floor, Room W12-140, 1200 New Jersey Avenue, SE., Washington, DC 20590, between 9 a.m. and 5 p.m. Eastern Time, Monday through Friday, except Federal holidays.

• Fax: (202) 493-2251.

You may call the Docket Management Facility at 202-366-9826.

Regardless of how you submit your comments, you should mention the docket number of this document.

FOR FURTHER INFORMATION CONTACT: Complete copies of the request for collection that is the subject of this notice may be obtained from Mr. Ken Katz at (202) 366-0846, facsimile (202) 493-2290, electronic mail: ken.katz@dot.gov or Ms. Dorothy Nakama at (202) 366-2992.

The mailing address for both officials is: NHTSA, 1200 New Jersey Ave., SE., Washington, DC 20590.

SUPPLEMENTARY INFORMATION: Under the Paperwork Reduction Act of 1995, before a proposed collection of information is submitted to OMB for approval, Federal agencies must first publish a document in the Federal Register providing a 60-day comment period and otherwise consult with members of the public and affected agencies concerning each proposed collection of information. The OMB has promulgated regulations describing what must be included in such a document. Under the OMB regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In this notice, we are soliciting public comment on the following collection of information of manufacturers' production plan data for model years (MYs) 2008-2020 in connection with NHTSA's establishing of passenger car and light truck CAFE standards for model years 2012-2016. We are asking OMB for processing through emergency procedures established at 5 CFR Section 1320.13, and have asked OMB to approve or disapprove this collection within a week.

Title: 49 CFR Parts 531 and 533 Passenger Car Average Fuel Economy Standards—Model Years 2008-2020; Light Truck Average Fuel Economy Standards—Model Years 2008-2020; Production Plan Data.

OMB Control Number: 2127-0665.

Form Number: There are no standard forms associated with this collection of information.

Requested Expiration Date of Approval: Ninety days from approval date.

Type of Request: Emergency clearance.

Summary of the Collection of Information: In this collection of information, NHTSA is requesting any updates to previously submitted future product plans from vehicle manufacturers, as well as production data through the recent past, including data about engines and transmissions for model year (MY) 2008 through MY 2020 passenger cars and light trucks and the assumptions underlying those plans. The submission of product plan information by manufacturers to NHTSA is voluntary.

NHTSA requests information for MYs 2008-2020 to supplement other information used by NHTSA in developing a realistic forecast of the MY 2012-2016 vehicle market, and in evaluating what technologies may feasibly be applied by manufacturers to achieve compliance with the MY 2012-2016 standards. Information regarding earlier model years may help the agency to better account for cumulative effects such as volume- and time-based reductions in costs, and also may help to reveal product mix and technology application trends during model years for which the agency is currently receiving actual corporate average fuel economy (CAFE) compliance data. Information regarding later model years may help the agency gain a better understanding of how manufacturers' plans through MY 2016 relate to their longer-term expectations regarding Energy Independence and Security Act requirements, market trends, and prospects for more advanced technologies.

NHTSA will also consider information from model years before and after MYs 2012-2016 when reviewing manufacturers' planned schedules for redesigning and freshening their products, in order to examine how manufacturers anticipate tying technology introduction to product design schedules and to consider how the agency should account for those schedules in its analysis for the final rule. In addition, the agency is requesting information regarding manufacturers' estimates of the future vehicle population, and fuel economy improvements and incremental costs attributed to this notice.

Description of the Need for the Information and the Proposed Use of the Information:

NHTSA needs the information described above to aid in assessing what CAFE standards should be established for model years 2012 through 2016 passenger cars and light trucks.

Description of the Likely Respondents (Including Estimated Number and Proposed Frequency of Response to the Collection of Information):

It is estimated that this collection affects approximately 22 motor vehicle manufacturers. The information that is the subject of this collection of information is collected once, for the final rule.

Estimate of the Total Annual Reporting and Recordkeeping Burden Resulting from the Collection of Information: The estimated burden is as follows:

It is estimated that this collection affects approximately 22 vehicle manufacturers. One major manufacturer (General Motors) estimated their burden to be approximately 4,300 hours. The burden to other manufacturers was estimated using sales weights relative to General Motors' total sales (e.g., if a manufacturer produces 50 percent as many vehicles as General Motors, their burden is estimated to be 4,300 * 0.5 = 2150 hours). Therefore the burden to each manufacturer depends on the number of vehicles that manufacturer produces. The total estimated burden is 16,000 hours annually.

Number of Affected Vehicle Manufacturers | 22
Annual Labor Hours for Each Manufacturer To Prepare and Submit Required Information | Variable.
Total Annual Information Collection Burden | 16,000 hours.

The monetized cost associated with this information collection is determined by multiplying the total labor hours by an appropriate labor rate. For this information collection, we believe vehicle manufacturers will use mechanical engineers to prepare and submit the data. Therefore, we are applying a labor rate of $36.02 per hour which is the median national wage for mechanical engineers.¹ Thus, the estimated monetized annual cost is 16,000 hours × $36.02 per hour = $576,320.

¹ The national median hourly rate for mechanical engineers, May 2008, according to the Bureau of Labor Statistics, is $36.02. See http://www.bls.gov/oes/2008/may/oes_nat.htm#b17-0000 (last accessed August 26, 2009).

Authority: 44 U.S.C. 3506(c); delegation of authority at 49 CFR 1.50.

Julie Abraham,
Director, International Policy, Fuel Economy and Consumer Programs.

[FR Doc. E9-22738 Filed 9-17-09; 11:15 am]

BILLING CODE 4910-59-P